FEDERAL COMMUNICATIONS COMMISSION

47 CFR Part 36

[CC Docket 80-286; FCC 17-55]

Jurisdictional Separations and Referral to the Federal-State Joint Board; Correction

AGENCY: Federal Communications Commission.

ACTION: Final rule; correcting amendments.

SUMMARY: This document corrects errors in the Code of Federal Regulations relating to the Commission's jurisdictional separations rules. In a rule published in the Federal Register on June 2, 2017, the date “December 30, 2018” was inadvertently used, and is now replaced by “December 31, 2018,” the date adopted in the Commission's underlying order.

DATES: Effective January 30, 2018.

FOR FURTHER INFORMATION CONTACT: Rhonda Lien, Pricing Policy Division, Wireline Competition Bureau, at (202) 418-1540 or at Rhonda.Lien@fcc.gov.

SUPPLEMENTARY INFORMATION: This document contains correcting amendments to the Code of Federal Regulations to correct an erroneous date introduced in a Federal Register document published June 2, 2017 (82 FR 25535). A prior attempt to correct that date through a document published July 14, 2017 (82 FR 32489) was unsuccessful.

List of Subjects in 47 CFR Part 36

Communications common carriers, Reporting and recordkeeping requirements, Telephone, Uniform System of Accounts.

For the reasons discussed in the preamble, the Federal Communications Commission corrects 47 CFR part 36 by making the following correcting amendments:

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

1. The authority citation for part 36 continues to read as follows:

Authority: 47 U.S.C. 151, 154(i) and (j), 205, 221(c), 254, 303(r), 403, 410 and 1302 unless otherwise noted.

§§ 36.3, 36.123, 36.124, 36.125, 36.126, 36.141, 36.142, 36.152, 36.154, 36.155, 36.156, 36.157, 36.191, 36.212, 36.214, 36.372, 36.374, 36.375, 36.377, 36.378, 36.379, 36.380, 36.381, and 36.382 [Amended]

2. In 47 CFR part 36, remove the date “December 30, 2018” and add, in its place, everywhere it appears the date “December 31, 2018” in the following places:

a. Section 36.3(a) through (c), (d) introductory text, and (e);

b. Section 36.123(a)(5) and (6);

c. Section 36.124(c) and (d);

d. Section 36.125(h) and (i);

e. Section 36.126(b)(6), (c)(4), (e)(4), and (f)(2);

f. Section 36.141(c);

g. Section 36.142(c);

h. Section 36.152(d);

i. Section 36.154(g);

j. Section 36.155(b);

k. Section 36.156(c);

l. Section 36.157(b);

m. Section 36.191(d);

n. Section 36.212(c);

o. Section 36.214(a);

p. Section 36.372;

q. Section 36.374(b) and (d);

r. Section 36.375(b)(4) and (5);

s. Section 36.377(a) introductory text, (a)(1)(ix), (a)(2)(vii), (a)(3)(vii), (a)(4)(vii); (a)(5)(vii), and (a)(6)(vii);

t. Section 36.378(b)(1);

u. Section 36.379(b)(1) and (2);

v. Section 36.380(d) and (e);

w. Section 36.381(c) and (d); and

x. Section 36.382(a).

Federal Communications Commission.
Marlene H. Dortch,
Secretary.

[FR Doc. 2018-01648 Filed 1-29-18; 8:45 am]

BILLING CODE 6712-01-P